DEPARTMENT OF HOMELAND SECURITY

Transportation Security Administration

[Docket No. TSA-2004-19147]

Extension of Agency Information Collection Activity Under OMB Review: Flight Training for Aliens and Other Designated Individuals; Security Awareness Training for Flight School Employees

AGENCY: Transportation Security Administration, DHS.

ACTION: 30-day Notice.

SUMMARY: This notice announces that the Transportation Security Administration (TSA) has forwarded the Information Collection Request (ICR), Office of Management and Budget (OMB) control number 1652-0021, abstracted below to OMB for review and approval of an extension of the currently approved collection under the Paperwork Reduction Act (PRA). TSA published a Federal Register notice, with a 60-day comment period soliciting comments, of the following collection of information on September 21, 2011 (76 FR 58531). The ICR describes the nature of the information collection and its expected burden. The collection involves collecting information for background checks for all aliens and other designated individuals seeking flight instruction (“candidates”) from Federal Aviation Administration (FAA)-certificated flight training providers. Through the information collected, TSA will determine whether a candidate is a threat to aviation or national security, and thus prohibited from receiving flight training. Additionally, flight training providers are required to conduct a security awareness program for their employees and contract employees and to maintain records associated with this training.

DATES: Send your comments by March 1, 2012. A comment to OMB is most effective if OMB receives it within 30 days of publication.

ADDRESSES: Interested persons are invited to submit written comments on the proposed information collection to the Office of Information and Regulatory Affairs, OMB. Comments should be addressed to Desk Officer, Department of Homeland Security/TSA, and sent via electronic mail to oira_submission@omb.eop.gov or faxed to (202) 395-6974.

FOR FURTHER INFORMATION CONTACT: Joanna Johnson, TSA PRA Officer, Office of Information Technology (OIT), TSA-11, Transportation Security Administration, 601 South 12th Street, Arlington, VA 20598-6011; telephone (571) 227-3651; email TSAPRA@dhs.gov.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: Flight Training for Aliens and Other Designated Individuals; Security Awareness Training for Flight School Employees.

Type of Request: Extension of a currently approved collection.

OMB Control Number: 1652-0021.

Forms(s): N/A.

Affected Public: Aliens and other designated individuals seeking flight instruction from FAA-certified flight training providers; flight training providers required to conduct security awareness training and their employees.

Abstract: TSA has adopted regulations relating to the security threat assessments that TSA will conduct to determine whether candidates are a threat to aviation or national security, and thus prohibited from receiving flight training. This collection of information requires Federal Aviation Administration (FAA)-certificated flight training providers to provide TSA with the information necessary to conduct the security threat assessments. Finally, TSA has adopted regulations relating to security awareness training for flight school employees and contract employees, which include maintaining records of all such training.

Public Comment: TSA received one comment on the 60-day notice for this collection. The commenter stated that aliens who seek to do harm to the country will have false identification documents. The commenter also stated that aliens seeking flight training on any aircraft size should be required to undergo a threat assessment. As to the first point, the threat assessment process has safeguards in place to guard against issues of false identification documents. As to the second point, when Congress enacted the Vision 100—Century of Aviation Reauthorization Act it specifically included aliens seeking flight training in aircraft with a MTOW of less than 12,500 pounds in the threat assessment requirement.

Number of Respondents: 53,000.

Estimated Annual Burden Hours: An estimated 507,750 hours annually. Issued in Arlington, Virginia, on January 26, 2012.

Joanna Johnson,
TSA Paperwork Reduction Act Officer, Office of Information Technology.

[FR Doc. 2012-2024 Filed 1-30-12; 8:45 am]

BILLING CODE 9110-05-P